DEPARTMENT OF DEFENSE

48 CFR Part 219

[DFARS Case 2004-D015]

Defense Federal Acquisition Regulation Supplement; Extension of Partnership Agreement—8(a) Program

Correction

In rule document 04-21852 beginning on page 58353 in the issue of Thursday, September 30, 2004 make the following correction:

On page 58353, in the third column, in the DATES section “September 29, 2004” should read “September 30, 2004”.

[FR Doc. C4-21852 Filed 10-4-04; 8:45 am]

BILLING CODE 1505-01-D

LIBRARY OF CONGRESS

Copyright Office

37 CFR Part 270

[Docket No. RM 2002-1G]

Notice and Recordkeeping for Use of Sound Recordings Under Statutory License

Correction

In rule document 04-22002 beginning on page 58261 in the issue of Thursday, September 30, 2004 make the following corrections:

(1) On page 58261, in the third column, in the second paragraph, in the next to last line “new types of subscription” should read “new subscription”.

(2) On page 58262, in the first column, in the second paragraph, in the eighth line “types of subscription services” should read “subscription services”.

[FR Doc. C4-22002 Filed 10-4-04; 8:45 am]

BILLING CODE 1505-01-D